DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1294) | City of Birmingham (12-04-6207P) | The Honorable William A. Bell, Mayor, City of Birmingham, 710 North 20th Street, 3rd Floor, Birmingham, AL 35203. | City Hall, 710 North 20th Street, 3rd Floor, Birmingham, AL 35203. | April 5, 2013 | 010116
Mobile (FEMA Docket No.: B-1298) | City of Prichard (12-04-4608P) | The Honorable Ron Davis, Mayor, City of Prichard, 216 East Prichard Avenue, Prichard, AL 36610. | City Hall, 216 East Prichard Avenue, Prichard, AL 36610. | April 29, 2013 | 010170
Shelby (FEMA Docket No.: B-1294) | City of Montevallo (12-04-7810P) | The Honorable Ben McCrory, Mayor, City of Montevallo, 545 Main Street, Montevallo, AL 35115. | City Hall, 545 Main Street, Montevallo, AL 35115. | April 4, 2013 | 010349
Shelby (FEMA Docket No.: B-1294) | City of Pelham (12-04-7869P) | The Honorable Don Murphy, Mayor, City of Pelham, 3162 Pelham Parkway, Pelham, AL 35124. | City Hall, 3162 Pelham Parkway, Pelham, AL 35124. | April 11, 2013 | 010193
Shelby (FEMA Docket No.: B-1294) | Town of Indian Springs Village (12-04-7869P) | The Honorable Steve Zerkis, Mayor, Town of Indian Springs Village, 5300 Mountain Park Drive, Indian Springs, AL 35124. | Town Hall 5300 Mountain Park Drive, Indian Springs, AL 35124. | April 11, 2013 | 010430
Shelby (FEMA Docket No.: B-1294) | Unincorporated areas of Shelby County (12-04-7869P) | The Honorable Lindsey Allen, Chairman, Shelby County Board of Supervisors, 200 West College Street, Columbiana, AL 35051. | Shelby County Engineer's Office 506 Highway, 70 Columbiana, AL 35051. | April 11, 2013 | 010191
Tuscaloosa (FEMA Docket No.: B-1294) | City of Tuscaloosa (12-04-3302P) | The Honorable Walter Maddox, Mayor, City of Tuscaloosa, 2201 University Boulevard, Tuscaloosa, AL 35401. | Engineering Department, 2201 University Boulevard, Tuscaloosa, AL 35401. | April 22, 2013 | 010203
Tuscaloosa (FEMA Docket No.: B-1294) | City of Tuscaloosa (12-04-3303P) | The Honorable Walter Maddox, Mayor, City of Tuscaloosa, 2201 University Boulevard, Tuscaloosa, AL 35401. | Engineering Department, 2201 University Boulevard, Tuscaloosa, AL 35401. | April 22, 2013 | 010203
Arizona:
Maricopa (FEMA Docket No.: B-1294) | City of Phoenix (13-09-0280P) | The Honorable Greg Stanton, Mayor, City of Phoenix, 200 West Washington Street, 11th Floor, Phoenix, AZ 85003. | Street Transportation Department, 200 West Washington Street, 5th Floor, Phoenix, AZ 85003. | April 8, 2013 | 040051
California:
Santa Clara (FEMA Docket No.: B-1294) | City of Cupertino (12-09-2521P) | The Honorable Mark Santoro, Mayor, City of Cupertino, 10300 Torre Avenue, Cupertino, CA 95014. | Planning Department, 10300 Torre Avenue, Cupertino, CA 95014. | April 4, 2013 | 060339
Santa Clara (FEMA Docket No.: B-1294) | City of Los Altos (12-09-2859P) | The Honorable Val Carpenter, Mayor, City of Los Altos, 1 North San Antonio Road, Los Altos, CA 94022. | Public Works Department, 1 North San Antonio Road, Los Altos, CA 94022. | April 18, 2013 | 060341
Santa Clara (FEMA Docket No.: B-1294) | City of San Jose (12-09-2521P) | The Honorable Chuck Reed, Mayor, City of San Jose, 200 East Santa Clara Street, San Jose, CA 95113. | Department of Public Works, 200 East Santa Clara Street Tower, 3rd Floor, San Jose, CA 95113. | April 4, 2013 | 060349
Santa Clara (FEMA Docket No.: B-1294) | City of Saratoga (12-09-2521P) | The Honorable Chuck Page, Mayor, City of Saratoga, 13777 Fruitvale Avenue, Saratoga, CA 95070. | Planning Department, 13777 Fruitvale Avenue, Saratoga, CA 95070. | April 4, 2013 | 060351
Santa Clara (FEMA Docket No.: B-1294) | Town of Los Altos Hills (12-09-2859P) | The Honorable Rich Larsen, Mayor, Town of Los Altos Hills, 26379 Fremont Road, Los Altos Hills, CA 94022. | Public Works Department, 26379 Fremont Road, Los Altos Hills, CA 94022. | April 18, 2013 | 060342
Colorado:
Adams (FEMA Docket No.: B-1294) | City of Thornton (12-08-0595P) | The Honorable Heidi Williams, Mayor, City of Thornton, 9500 Civic Center Drive, Thornton, CO 80229. | 9500 Civic Center Drive, Thornton, CO 80229. | April 12, 2013 | 080007
Adams (FEMA Docket No.: B-1294) | Unincorporated areas of Adams County (12-08-0595P) | The Honorable W. R. “Skip” Fischer, Chairman, Adams County Board of Commissioners, 4430 South Adams County Parkway, 5th Floor, Suite C5000A, Brighton, CO 80601. | Adams County Public Works Department, 4430 South Adams County Parkway, 1st Floor, Suite W2123, Brighton, CO 80601. | April 12, 2013 | 080001
Arapahoe (FEMA Docket No.: B-1294) | City of Centennial (12-08-0553P) | The Honorable Cathy Noon, Mayor, City of Centennial, 13133 East Arapahoe Road, Centennial, CO 80112. | Southeast Metro Stormwater Authority, 76 Inverness Drive East, Suite A, Centennial, CO 80112. | April 12, 2013 | 080315
Weld (FEMA Docket No.: B-1298) | Town of Frederick (12-08-0198P) | The Honorable Tony Carey, Mayor, Town of Frederick, P.O. Box 435, Frederick, CO 80530. | Planning Department, 401 Locust Street, Frederick, CO 80530. | April 15, 2013 | 080244
Weld (FEMA Docket No.: B-1298) | Unincorporated areas of Weld County (12-08-0198P) | The Honorable Sean Conway, Chairman, Weld County Board of Commissioners, P.O. Box 758, Greeley, CO 80632. | Weld County Public Works Department, 1111 H Street, Greeley, CO 80632. | April 15, 2013 | 080266
Florida:
Broward (FEMA Docket No.: B-1298) | Town of Hollywood (12-04-8174P) | The Honorable Peter J. M. Bober, Mayor, City of Hollywood, P.O. Box 229045, Hollywood, FL 33022. | City Hall, 2600 Hollywood Boulevard, Hollywood, FL 33020. | April 26, 2013 | 125113
Collier (FEMA Docket No.: B-1298) | City of Naples (12-04-5497P) | The Honorable John F. Sorey, III, Mayor, City of Naples, 735 8th Street, South Naples, FL 34102. | Building Department, 295 Riverside Circle, Naples, FL 34102. | April 19, 2013 | 125130
Leon (FEMA Docket No.: B-1294) | Unincorporated areas of Leon County (12-04-6893P) | The Honorable Nicholas J. Maddox, Chairman, Leon County Board of Commissioners, 301 South Monroe Street, 5th Floor Tallahassee, FL 32301. | Leon County Courthouse, 301 South Monroe Street, Tallahassee, FL 32301. | April 19, 2013 | 120143
Miami-Dade (FEMA Docket No.: B-1294) | City of Sunny Isles Beach (12-04-6538P) | The Honorable Norman S. Edelcup, Mayor, City of Sunny Isles Beach, 18070 Collins Avenue, Sunny Isles Beach, FL 33160. | City Hall, 18070 Collins Avenue, Sunny Isles Beach, FL 33160. | April 8, 2013 | 120688
Orange (FEMA Docket No.: B-1294) | City of Orlando (12-04-4611P) | The Honorable Buddy Dyer, Mayor, City of Orlando, P.O. Box 4990, Orlando, FL 32808 | Permitting Services Department, 400 South Orange Avenue, Orlando, FL 32801. | April 19, 2013 | 120186
Orange (FEMA Docket No.: B-1314) | City of Orlando (12-04-6931P) | The Honorable Buddy Dyer, Mayor, City of Orlando, P.O. Box 4990, Orlando, FL 32808. | One City Commons, 400 South Orange Avenue, Orlando, FL 32808. | March 8, 2013 | 120186
Orange (FEMA Docket No.: B-1294) | Unincorporated areas of Orange County (12-04-4611P) | The Honorable Teresa Jacobs, Mayor, Orange County, 201 South Rosalind Avenue, Orlando, FL 32801. | Orange County Stormwater Management Department, 4200 South John Young Parkway, Orlando, FL 32839. | April 19, 2013 | 120179
Santa Rosa (FEMA Docket No.: B-1308) | Unincorporated areas of Santa Rosa County (13-04-0043P) | The Honorable Jim Williamson, Chairman, Santa Rosa County Board of Commissioners, 6495 Carolina Street, Suite M, Milton, FL 32570. | Santa Rosa County Development Services Department, 6051 Old Bagdad Highway, Room 202, Milton, FL 32583. | April 4, 2013 | 120274
Walton (FEMA Docket No.: B-1294) | Unincorporated areas of Walton County (12-04-6405P) | The Honorable Scott Brannon, Chairman, Walton County Commissioners, 415 Highway 20, Freeport, FL 32439. | Walton County Courthouse Annex, 47 North 6th Street, DeFuniak Springs, FL 32435. | April 5, 2013 | 120317
Kentucky:
Fayette (FEMA Docket No.: B-1298) | Lexington-Fayette Urban County Government (12-04-4610P) | The Honorable James P. Gray, II, Mayor, Lexington-Fayette Urban County Government, 200 East Main Street, Lexington, KY 40507. | Lexington-Fayette Urban County Government Center, 200 East Main Street, Lexington, KY 40507. | April 8, 2013 | 210067
Nevada:
Clark (FEMA Docket No.: B-1298) | Unincorporated areas of Clark County (13-09-0072P) | The Honorable Susan Brager, Chair, Clark County Board of Commissioners, 500 South Grand Central Parkway, Las Vegas, NV 89155. | Public Works Department, 500 South Grand Central Parkway, Las Vegas, NV 89155 | April 1, 2013 | 320003
South Carolina:
Richland (FEMA Docket No.: B-1308) | City of Columbia (11-04-8071P) | The Honorable Steve Benjamin, Mayor, City of Columbia, 1737 Main Street, Columbia, SC 29201. | City Hall, 1737 Main Street, Columbia, SC 29021. | April 29, 2013 | 450172
Tennessee:
Shelby (FEMA Docket No.: B-1294) | City of Germantown (12-04-5413P) | The Honorable Sharon Goldsworthy, Mayor, City of Germantown, 1930 South Germantown Road, Germantown, TN 38138. | Economic and Community Development Department, 1920 South Germantown Road, Germantown, TN 38138. | April 12, 2013 | 470353
Wyoming:
Laramie (FEMA Docket No.: B-1294) | Unincorporated areas of Laramie County (12-08-0028P) | The Honorable Gay Woodhouse, Chair, Laramie County Board of Commissioners, P.O. Box 1888, Cheyenne, WY 82001. | Laramie County Planning Department, Historic County Courthouse, 310 West 19th Street, Suite 400, Cheyenne, WY 82001. | April 8, 2013 | 560029

(Catalog of Federal Domestic Assistance No. 97.022, “Flood Insurance.”)

Dated: May 17, 2013.
Roy E. Wright,
Deputy Associate Administrator for Mitigation, Department of Homeland Security, Federal Emergency Management Agency.

[FR Doc. 2013-13926 Filed 6-11-13; 8:45 am]

BILLING CODE 9110-12-P